POSTAL REGULATORY COMMISSION

[Docket No. MC2025-58; Order No. 7711]

Classification Changes

AGENCY: Postal Regulatory Commission.

ACTION: Notice.

SUMMARY: The Commission is recognizing a recent Postal Service filing concerning changes in classifications for International Return Receipt. This notice informs the public of the filings, invites public comment, and takes other administrative steps.

DATES: Comments are due: November 14, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On October 10, 2024, pursuant to 39 U.S.C. 3642 and 39 CFR 3040.130 et seq., the Postal Service filed a request to remove Mail Classification Schedule (MCS) section 2615.3 International Return Receipt from the Competitive product list in the MCS.¹ In addition, pursuant to 39 U.S.C. 3632 and 39 CFR 3040.180 et seq., the Postal Service requests to make accompanying materials changes to product descriptions for certain other Competitive products for which international return receipt is listed as an optional feature in MCS sections 2310.5, 2315.5, 2335.5, 2510.3, 2510.6, 2510.7, 2510.8, 2515.6, and 2515.8. Id. at 1, n.1. The Postal Service intends for these proposed changes to take effect on January 1, 2025. Id. at 3.

¹ Request of the United States Postal Service to Remove International Return Receipt from the Competitive Product List and to Make Accompanying Classification Changes, October 10, 2024, at 1 (Request).

II. Contents of Filing

The Postal Service states that the removal of International Return Receipt from the relevant MCS sections will align the MCS to changes to the Universal Postal Union (UPU) Convention and Convention Regulations.² Specifically, the UPU Extraordinary Congress decided last year that advice of delivery (which is referred to as “International Return Receipt” in the MCS) will no longer be an ancillary service with parcel post effective January 1, 2025, and it will no longer be an ancillary service with letter post packets that contain goods effective January 1, 2026. Request at 2. Therefore, the Postal Service proposes to eliminate International Return Receipt as an optional feature of Inbound Parcel Post (at UPU rates) in MCS section 2310.5 and as an optional feature of Outbound Priority Mail International in MCS section 2315.5. Id.; see id. at 1, n.1. In addition, the Postal Service proposes to eliminate International Return Receipt at an optional feature of Outbound Single-Piece First-Class Package International Service in MCS section 2335.5. Id. Although this latter change would be made 1 year sooner than the effective date of related changes to the UPU Convention that affects letter post packets that contain goods, the Postal Service states that having a single effective date for all proposed MCS changes is “desirable to streamline outbound product offerings.” Request at 2.

² Id. at 2 (citing Universal Postal Union, International Bureau Circular 86, Amendments to the Convention Regulations (and their Final Protocol), May 31, 2024).

The Postal Service states that the combined effect of these proposed changes is the removal of MCS section 2615.3, International Return Receipt. Id. at 3. In addition, the Postal Service proposes conforming material changes to product descriptions for all relevant Competitive products listed in the MCS to reflect that International Return Receipt is no longer available. Id. These proposed material changes to product descriptions are in MCS sections 2510.3, 2510.6, 2510.7, 2510.8, 2515.6, and 2515.8. Id. at 1, n.1.

The Postal Service states that the proposed removal of MCS section 2615.3, International Return Receipt, satisfies the requirements in 39 CFR 3040.131(a) through (f) because: (a) it includes the name and class of the product that is the subject of the request; (b) it includes a copy of Governors' Decision No. 24-6 supporting the request in Attachment 1; (c) it indicates that the product to be removed is from the Competitive product list; (d) it indicates that the product to be removed is not one of the three identified categories subject to unique regulatory treatment; (e) it includes a Statement of Supporting Justification in Attachment 3, which explains why the requested change is not inconsistent with the applicable statutory and regulatory requirements; and (f) it includes a copy of the applicable sections of the MCS and the proposed changes in legislative format in Attachment 2. Id. at 3-4, Attachments 1-3.

The Postal Service states that the proposed removal of International Return Receipt as an optional feature for Competitive products listed in MCS sections 2310.5, 2315.5, 2335.5, 2510.3, 2510.6, 2510.7, 2510.8, 2515.6, and 2515.8 satisfies the requirements in 39 CFR 3040.180 and 3040.181 because: (1) the Request is submitted no later than 30 days prior to implementing the proposed changes; (2) it includes a copy of the applicable sections of the MCS and the proposed changes in legislative format in Attachment 2; and (3) it provides supporting justification, which includes a description of, and rationale for, the proposed changes to product descriptions, explains why the changes will not result in the violation of 39 U.S.C. 3633 and 39 CFR part 3035 for the Competitive products at issue, and describes the likely impact that the changes will have on users of the product and on competitors. Request at 4-8, Attachment 2.

III. Commission Action

The Commission establishes Docket No. MC2025-58 for consideration of matters raised by the Request.

The Commission invites comments on whether the Postal Service's filing is consistent with 39 U.S.C. 3633 and 3642 and 39 CFR 3040.130, 3040.131, 3040.132, 3040.180, and 3040.181. Comments are due no later than November 14, 2024. The public portions of the filings can be accessed via the Commission's website (https://www.prc.gov).

The Commission appoints Mallory L. Smith to represent the interests of the general public (Public Representative) in this docket, pursuant to 39 U.S.C. 505.

IV. Ordering Paragraphs

It is ordered:

1. The Commission establishes Docket No. MC2025-58 for consideration of matters raised by the Postal Service's Request.

2. Pursuant to 39 U.S.C. 505, Mallory L. Smith is appointed to serve as an officer of the Commission (Public Representative) to represent the interests of the general public in this proceeding.

3. Comments are due no later than November 14, 2024.

4. The Secretary shall arrange for publication of this Order in the Federal Register.

By the Commission.
Erica A. Barker,
Secretary.

[FR Doc. 2024-24097 Filed 10-17-24; 8:45 am]

BILLING CODE 7710-FW-P